DEPARTMENT OF HEALTH AND HUMAN SERVICES

Administration for Children and Families

Submission for OMB Review; Comment Request

Title: Head Start National Training and Technical Assistance Quality Assurance Study.

OMB No.: New Collection.

Description: The Head Start National Training and Technical Assistance Quality Assurance study is being undertaken to document and provide feedback on the work of the newly designed Head Start Training and Technical Assistance (T/TA) system. The Head Start Bureau awarded this contract to Mathematica Policy Research, Inc., and its subcontractor, Xtria LLC, in October 2004.

Providing training and technical assistance has long been a crucial component of the national-regional Head Start system. Through the new T/TA system, however, the Head Start Bureau has placed greater emphasis on quality and consistency of T/TA service delivery. Under the new T/TA system, the Head Start Bureau's T/TA Branch annually sets national priorities. Regional Office T/TA liaisons oversee the system's 12 contracts, awarded in December 2003, which include locally-based content experts in the area of disabilities, early literacy, child development, fiscal administration and management, health, and family and community partnerships. These content experts support locally-based TA specialists (TAS), who work with a caseload of 10 to 12 programs to develop T/TA training plans based on each grantee's self-assessment and the results from the Program Review Instrument for Systems Monitoring (PRISM) process. National contractors provide training and other resources according to priorities determined by the Head Start Bureau and in line with Administration initiatives. Programs can also use their special T/TA grant funds and, when necessary, additional funds from their basic Head Start grant funds to hire consultants or attend training events.

In addition, through Higher Education Grants, universities provide coursework to meet Head Start staff's credentialing needs in partnership with Head Start programs. The Higher Education grantees (HEGs) are organized into three consortia, representing Historically Black Colleges and Universities, Tribal Colleges and Universities, and Hispanic/Latino-serving institutions.

For the regional Head Start system, the Quality Assurance Study will assess (1) Each Head Start region's implementation and structure of the new system, (2) regional T/TA strategies and services provided to grantees, (3) grantees' progress in assessing T/TA needs and identifying appropriate ways to meet these needs, (4) grantees' annual T/TA plans, and (5) grantees' perceptions about the systems' impact on program quality and child outcomes. The study also will analyze whether the HEGs meet their goal of increasing the early childhood credentials of Head Start staff and teachers. In 2005, the study will collect information about the delivery of T/TA services to Head Start and Early Head Start programs through site visits to 48 representative programs (about 4 per region) and site visits to 15 HEGs (5 of each of the 3 types of HEGs). In 2006, the study will visit 36 of the 48 representative Head Start and Early Head Start programs to learn about changes in the T/TA system. All data collection activities have been designed to minimize the burden on respondents by minimizing the time required to respond. Participation in the study is voluntary.

The research will provide the Head Start Bureau and the Administration for Children and Families with information about exemplary practices as well as areas in the T/TA system which could be improved.

Respondents: Early Head Start and Head Start directors, coordinators, specialists, center administrators, teachers, and home visitors; locally-based TA specialists; university-based HEG project directors, university faculty, Head Start program administrators, and Head Start program staff and teachers.

Annual Burden Estimates

Instrument | Number of respondents | Number of responses per respondent | Average burden hours per response | Total burden hours
Program Site Visit Protocols (2005)
Director | 48 | 1 | 1.5 | 72
Coordinator/Specialist | 144 | 1 | 1.25 | 180
Center Administrator | 288 | 1 | 1.25 | 360
Teacher/Home Visitor | 480 | 1 | 1.25 | 600
Locally-Based TA Specialists | 48 | 1 | 1.5 | 72
Program Reviews ᵃ | 48 | 1 | 0.5 | 24
HEG Site Visit Protocols (2005)
HEG Project Director/Coordinator | 15 | 1 | 1.5 | 22.5
HEG Staff/Faculty | 45 | 1 | 1 | 45
HS Director | 30 | 1 | 1 | 30
HS Staff | 60 | 1 | 1 | 60
Total for 2005 |  |  |  | 1465.5
Grantee Site Visit Protocols (2005)
Director | 36 | 1 | 1.5 | 54
Coordinator/Specialist | 108 | 1 | 1.25 | 135
Center Administrator | 216 | 1 | 1.25 | 270
Teacher/Home Visitor | 360 | 1 | 1.25 | 450
Locally-Based TA Specialist | 36 | 1 | 1.5 | 54
Program Reviewsᵃ | 36 | 1 | 0.5 | 18
Total for 2005 |  |  |  | 981
ᵃ Reviews will be conducted with the locally based TA specialists.

Estimated Total Burden Hours: 2446.5.

Estimated Annualized Burden for both the grantee and HEG site visits is 1223.25 hours. This annual burden was calculated by dividing total burden hours by two years.

Additional Information: Copies of the proposed collection may be obtained by writing to The Administration for Children and Families, Office of Information Services, 370 L'Enfant Promenade, SW., Washington, DC 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Attn: Desk Officer for ACF, e-mail address: Katherine_T._Astrich@omb.eop.gov.

Dated: May 19, 2005.
Robert Sargis,
Reports Clearance Officer.

[FR Doc. 05-10339 Filed 5-23-05; 8:45 am]

BILLING CODE 4184-01-M